FEDERAL ELECTION COMMISSION

[NOTICE 2017-13]

Filing Dates for the Pennsylvania Special Election in the 18th Congressional District

AGENCY: Federal Election Commission.

ACTION: Notice of filing dates for special election.

SUMMARY: Pennsylvania has scheduled a special general election on March 13, 2018, to fill the U.S. House of Representatives seat in the 18th Congressional District vacated by Representative Tim Murphy.

Committees required to file reports in connection with the Special General Election on March 13, 2018, shall file a 12-day Pre-General Report, and a 30-day Post-General Report.

FOR FURTHER INFORMATION CONTACT: Ms. Elizabeth S. Kurland, Information Division, 999 E Street NW., Washington, DC 20463; Telephone: (202) 694-1100; Toll Free (800) 424-9530.

SUPPLEMENTARY INFORMATION:

Principal Campaign Committees

All principal campaign committees of candidates who participate in the Pennsylvania Special General Election shall file a 12-day Pre-General Report on March 1, 2018; and a Post-General Report on April 12, 2018. (See chart below for the closing date for each report.)

Note that these reports are in addition to the campaign committee's regular quarterly filings. (See chart below for the closing date for each report).

Unauthorized Committees (PACs and Party Committees)

Political committees filing on a quarterly basis in 2018 are subject to special election reporting if they make previously undisclosed contributions or expenditures in connection with the Pennsylvania Special General Election by the close of books for the applicable report(s). (See chart below for the closing date for each report.)

Committees filing monthly that make contributions or expenditures in connection with the Pennsylvania Special General Election will continue to file according to the monthly reporting schedule.

Additional disclosure information in connection with the Pennsylvania Special General Election may be found on the FEC Web site at https://www.fec.gov/help-candidates-and-committees/dates-and-deadlines/.

Disclosure of Lobbyist Bundling Activity

Principal campaign committees, party committees and Leadership PACs that are otherwise required to file reports in connection with the special elections must simultaneously file FEC Form 3L if they receive two or more bundled contributions from lobbyists/registrants or lobbyist/registrant PACs that aggregate in excess of the lobbyist bundling disclosure threshold during the special election reporting periods (See chart below for closing date of each period.) 11 CFR 104.22(a)(5)(v), (b).

The lobbyist bundling disclosure threshold for calendar year 2017 is $17,900. This threshold amount may increase in 2018 based upon the annual cost of living adjustment (COLA). Once the adjusted threshold amount becomes available, the Commission will publish it in the Federal Register and post it on its Web site. 11 CFR 110.17(e)(2). For more information on these requirements, see Federal Register Notice 2009-03, 74 FR 7285 (February 17, 2009).

Calendar of Reporting Dates for Pennsylvania Special General Election
Report | Close of books ¹ | Reg./cert. & overnight mailing deadline | Filing deadline
Committees Involved in the Special General (03/13/18) Must File
Pre-General | 02/21/18 | 02/26/18 | 03/01/18
Post-General | 04/02/18 | 04/12/18 | 04/12/18
April Quarterly |  | —WAIVED— |
July Quarterly | 06/30/18 | 07/15/18 | 07/15/18 ²
¹ The reporting period always begins the day after the closing date of the last report filed. If the committee is new and has not previously filed a report, the first report must cover all activity that occurred before the committee registered as a political committee up through the close of books for the first report due.
² Notice that this filing deadline falls on a weekend or federal holiday. Filing deadlines are not extended when they fall on nonworking days. Accordingly, reports filed by methods other than registered, certified or overnight mail must be received by close of business on the last business day before the deadline.

Dated: November 3, 2017.
On behalf of the Commission,
Steven T. Walther,
Chairman, Federal Election Commission.

[FR Doc. 2017-24748 Filed 11-15-17; 8:45 am]

BILLING CODE 6715-01-P